NUCLEAR REGULATORY COMMISSION

[NRC-2023-0214]

Biennial Review of Fees for the Criminal History Program: Fee Recovery for Fiscal Year 2024

AGENCY: Nuclear Regulatory Commission.

ACTION: Notification to applicants and licensees of a criminal history program fee decrease.

SUMMARY: The U. S. Nuclear Regulatory Commission (NRC) will decrease the current fee of $35 assessed to applicants and licensees for criminal history records checks to $32. This fee is necessary to recover the full cost for the administration of the Criminal History Program (CHP). Information regarding this change can be found on the NRC's CHP public website at https://www.nrc.gov/security/chp.html.

DATES: The fee decrease will begin on February 1, 2024.

ADDRESSES: Please refer to Docket ID NRC-2023-0214 when contacting the NRC about the availability of information regarding this document. You may obtain publicly available information related to this document using any of the following methods:

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Doreen Turner, Office of Nuclear Security and Incident Response, U.S. Nuclear Regulatory Commission, Washington, DC 20555-0001, telephone: 301-415-7553; email: Doreen.Turner@nrc.gov.

SUPPLEMENTARY INFORMATION:

I. Background

Pursuant to requirements in the Chief Financial Officers Act of 1990 (31 U.S.C. 902(a)(8)), the NRC conducts biennial reviews of the fees assessed to applicants and licensees for criminal history records checks. Specifically, the purpose of these reviews is to determine the suitability of fees to cover the costs charged by the Federal Bureau of Investigation (FBI) and the costs of NRC to administer the program. The latest biennial review was completed on September 14, 2023. As a result of this review, the Chief Financial Officer approved a decrease in fees to be implemented in fiscal year 2024.

ll. Discussion

During this biennial review cycle, the NRC was able to identify contract cost savings and obtain more accurate cost information for supporting CHP services (e.g., associated Electronic Information Exchange costs) that can be passed on to applicants and licensees. Accordingly, the NRC will decrease the current fee of $35 assessed to applicants and licensees for criminal history records checks to $32. This fee is the sum of the user fee charged by the FBI ($11.25 effective January 1, 2019) plus NRC's direct and indirect costs incurred in processing fingerprints.

As a reminder, payment is due upon fingerprint card submission, and the NRC's preferred method of payment is through Pay.gov at https://www.pay.gov, which includes payment by debit or credit card or electronic funds transfer (e-check). Although electronic payment is preferred, the NRC will also accept cashier checks or money orders made payable to the U.S. Nuclear Regulatory Commission through September 30, 2024. Effective October 1, 2024, the NRC will only accept electronic payment methods. Fingerprint cards along with proof of payment should be sent to: U.S. Nuclear Regulatory Commission, Director, Division of Physical and Cyber Security Policy, Attn: Criminal History Program/Mail Stop—T-07D04M, 11545 Rockville Pike, Rockville, MD 20852-2738.

Contact: Doreen Turner, Criminal History Program Manager, Ph. 301-415-7553, Doreen.Turner@nrc.gov.

Dated: January 4, 2024.
For the Nuclear Regulatory Commission.
Gregory T. Bowman,
Director, Division of Physical and Cyber Security Policy, Office of Nuclear Security and Incident Response.

[FR Doc. 2024-00296 Filed 1-9-24; 8:45 am]

BILLING CODE 7590-01-P